DEPARTMENT OF ENERGY

Secretary of Energy Advisory Board; Notice of Open Meeting

AGENCY: Department of Energy.

SUMMARY: This notice announces a meeting of the Secretary of Energy Advisory Board's Openness Advisory Panel. The Federal Advisory Committee Act (Public Law 92-463, 86 Stat. 770), requires that agencies publish these notices in the Federal Register to allow for public participation.

NAME: Secretary of Energy Advisory Board—Openness Advisory Panel.

DATE: Tuesday, May 16, 2000, 9 a.m.-3:30 p.m.

ADDRESSES: U.S. Department of Energy, Program Review Center (Room 8E-089), Forrestal Building, 1000 Independence Avenue, SW., Washington, DC 20585.

Note: Members of the public are requested to contact the Office of the Secretary of Energy Advisory Board at (202) 586-7092 in advance of the meeting (if possible), to expedite their entry to the Forrestal Building on the day of the meeting. Public participation is welcomed.

FOR FURTHER INFORMATION CONTACT: Richard Burrow, Deputy Director, Secretary of Energy Advisory Board (AB-1), U.S. Department of Energy, 1000 Independence Avenue, SW., Washington, DC 20585, (202) 586-7092 or (202) 586-6279 (fax).

SUPPLEMENTARY INFORMATION: The purpose of the Openness Advisory Panel is to provide advice to the Secretary of Energy Advisory Board regarding the status and strategic direction of the Department's classification and declassification policies and programs, and other aspects of the Department's ongoing Openness Initiative. The Panel's work will help institutionalize the Department's Openness Initiative.

Tentative Agenda

The agenda for the May 16 meeting has not been finalized but will include detailed briefings and discussions on the history and accomplishments of DOE's Openness Initiative; the legal foundations and basis for openness; implementation status of the OAP Interim Report; and key issues and challenges in classification, declassification and records management. Members of the Public wishing to comment on issues before the Openness Advisory Panel will have an opportunity to address the Panel during the afternoon period for public comment.

Tentative Agenda

9-9:30 a.m. Opening Remarks & Introductions—Herbert Brown, Chairman Openness Advisory Panel

9:30-10:15 a.m. Briefing & Discussion: History and Accomplishments of DOE's Openness Initiative

10:15-10:30 a.m. Break

10:30-11:15 a.m. Briefing & Discussion: Legal Foundations and the Basis for Openness

11:15-12 p.m. Status Report: Implementation of OAP Interim Report Recommendations

12-1 p.m. Lunch Break

1-1:45 p.m. Briefing & Discussion: Issues and Challenges in Classification and Declassification

1:45-2:30 p.m. Briefing & Discussion: Issues and Challenges in Records Management

2:30-3:15 p.m. Working Session: Panel Organization, Scope, & Work Plans

3:15-3:30 p.m. Public Comment Period

3:30 p.m. Adjourn

This tentative agenda is subject to change. A final agenda will be available at the meeting.

Public Participation

In keeping with procedures, members of the public are welcome to observe the business of the Openness Advisory Panel and submit written comments or comment during the scheduled public comment periods. The Chairman of the Panel is empowered to conduct the meeting in a fashion that will, in the Chairman's judgment, facilitate the orderly conduct of business. During its meeting in Washington, DC the Panel welcomes public comment. Members of the public will be heard in the order in which they sign up at the beginning of the meeting. The Panel will make every effort to hear the views of all interested parties. You may submit written comments to Betsy Mullins, Executive Director, Secretary of Energy Advisory Board, AB-1, U.S. Department of Energy, 1000 Independence Avenue, SW., Washington, DC 20585. This notice is being published less than 15 days before the date of the meeting due to the late resolution of programmatic issues.

Minutes

A copy of the minutes and a transcript of the meeting will be made available for public review and copying approximately 30 days following the meeting at the Freedom of Information Public Reading Room, 1E-190 Forrestal Building, 1000 Independence Avenue, SW., Washington, DC, between 9 a.m. and 4 p.m., Monday through Friday except Federal holidays. Further information on the Secretary of Energy Advisory Board and its subcommittees may be found at the Board's web site, located at http://www.hr.doe.gov/seab.

Issued at Washington, DC, on May 9, 2000.
Rachel M. Samuel,
Deputy Advisory Committee Management Officer.

[FR Doc. 00-12114 Filed 5-11-00; 8:45 am]

BILLING CODE 6450-01-U